DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Santa Clara County, California, and Incorporated Areas
FEMA Docket No.: B-7764
San Tomas Aquino Creek | Approximately 20 feet downstream of Quito Road | +376 | City of Monte Sereno.
| Approximately 460 feet upstream of Quito Road | +439
* National Geodetic Vertical Datum.
+ North American Vertical Datum.
# Depth in feet above ground.
‸ Mean Sea Level, rounded to the nearest 0.1 meter.
ADDRESSES
City of Monte Sereno
Maps are available for inspection at City of Monte Sereno Engineering Department, 18041 Saratoga-Los Gatos Road, Monte Sereno, CA.
Walton County, Georgia, and Incorporated Areas
FEMA Docket No.: B-7764
Alcovy River | Approximately 525 feet downstream of confluence of Cedar Creek Southeast | +782 | Unincorporated Areas of Walton County.
| Approximately 1,740 feet upstream of confluence of Cedar Creek Southeast | +784
Apalachee River | Approximately 2,600 feet downstream of upstream county boundary with Gwinnett County | +820 | Unincorporated Areas of Walton County.
| At upstream county boundary with Gwinnett County | +823
Bay Creek | Approximately 345 feet downstream of county boundary with Gwinnett County | +792 | Unincorporated Areas of Walton County.
| Approximately 670 feet upstream of county boundary with Gwinnett County | +796
Big Haynes Creek | At downstream county boundary with Rockdale County | +846 | Unincorporated Areas of Walton County.
| At upstream county boundary with Gwinnett County | +849
Brushy Fork Creek | Approximately 1,740 feet downstream of Centerville Rosebud Road | +862 | Unincorporated Areas of Walton County, City of Loganville.
| Approximately 2,550 feet upstream of Old Loganville Road | +906
Cedar Creek Southeast | At confluence with Alcovy River | +782 | Unincorporated Areas of Walton County.
| Approximately 2,840 feet upstream of confluence with Alcovy River | +796
* National Geodetic Vertical Datum.
+ North American Vertical Datum.
# Depth in feet above ground.
‸ Mean Sea Level, rounded to the nearest 0.1 meter.
ADDRESSES
City of Loganville
Maps are available for inspection at 4385 Pecan Street, Loganville, GA 30052.
Unincorporated Areas of Walton County
Maps are available for inspection at 303 South Hammond Drive, Suite 330, Monroe, GA 30655.

Flooding source(s) | Location of referenced elevation | * Elevation in feet (NGVD) + Elevation in feet (NAVD) # Depth in feet above ground Modified | Communities affected
Miller County, Missouri, and Incorporated Areas
FEMA Docket No.: B-7759
Grand Glaize Creek | Approximately 1 mile downstream of County Road 42-18 | +672 | Unincorporated Areas ofMiller County.
| Approximately 3,000 feet upstream of County Road 42-18 | +680
Lake of the Ozarks (Osage River and tributaries) | At Bagnell Dam | +664 | City of Lake Ozark, Town of Lakeside, Unincorporated Areas of Miller County.
| Approximately 1 mile upstream of Bagnell Dam | +664
* National Geodetic Vertical Datum.
+ North American Vertical Datum.
# Depth in feet above ground.
ADDRESSES
City of Lake Ozark
Maps are available for inspection at City Office, 2624 Bagnell Dam Boulevard, Lake Ozark, MO 65049.
Town of Lakeside
Maps are available for inspection at Ameran UE, 617 River Road, Lake Ozark, MO 65049.
Unincorporated Areas of Miller County
Maps are available for inspection at County Office, 2001 Highway 52, Tuscumbia, MO 65082.
Yadkin County, North Carolina and Incorporated Areas
Docket Nos.: FEMA-B-7770 and FEMA-B-7779
Arnold Branch | At the confluence with South Deep Creek | +1,030 | Unincorporated Areas of Yadkin County.
| Approximately 0.5 mile upstream of Rena Road (State Road 1316) | +1,113
Beaverdam Creek | At the confluence with Cobb Creek and Jonesville Creek | +909 | Unincorporated Areas of Yadkin County, Town of Jonesville.
| Approximately 1,190 feet upstream of Haynes Road (State Road 1312) | +1,030
Big Kennedy Creek | At the Iredell/Yadkin County boundary | +847 | Unincorporated Areas of Yadkin County.
| Approximately 160 feet upstream of the Iredell/Yadkin County boundary | +849
Cain Mill Branch | At the Davie/Yadkin County boundary | +795 | Unincorporated Areas of Yadkin County.
| Approximately 1,590 feet upstream of Snow Road (State Road 1160) | +858
Chinquapin Creek | At the Davie/Yadkin County boundary | +788 | Unincorporated Areas of Yadkin County.
| Approximately 90 feet downstream of Baity Road (State Road 1723) | +805
Cobb Creek | At the confluence with Beaverdam Ceek and Jonesville Creek | +909 | Unincorporated Areas of Yadkin County, Town of Jonesville.
| Approximately 1.2 miles upstream of Swaim Road | +951
Cranberry Creek | At the confluence with South Deep Creek | +844 | Unincorporated Areas of Yadkin County.
| Approximately 1.9 miles upstream of Whitaker Road (State Road 1334) | +1,019
Deep Creek | At the confluence with Yadkin River | +718 | Unincorporated Areas of Yadkin County.
| Approximately 1,150 feet downstream of Speer Bridge Road (State Road 1711) | +731
Dobbins Creek | At the confluence with North Little Hunting Creek | +977 | Unincorporated Areas of Yadkin County.
| Approximately 0.6 mile upstream of Twin Creek Road (State Road 1319) | +1,060
Dobbins Creek Tributary | At the confluence with Dobbins Creek | +1,040 | Unincorporated Areas of Yadkin County.
| At the downstream side of Sandy Creek Drive | +1,051
Fall Creek | At the confluence with Yadkin River | +833 | Unincorporated Areas of Yadkin County.
| Approximately 1,575 feet upstream of NC Highway 67 | +960
Fisher Creek | At the confluence with South Deep Creek | +777 | Unincorporated Areas of Yadkin County.
| Approximately 910 feet upstream of Brandon Hills Road (State Road 1153) | +798
Flat Rock Branch | At the confluence with North Little Hunting Ceek | +839 | Unincorporated Areas of Yadkin County.
| Approximately 810 feet downstream of Flat Rock Church Road | +941
Forbush Creek | At the confluence with Yadkin River | +720 | Unincorporated Areas of Yadkin County.
| Approximately 400 feet upstream of Union Grove Church Road (State Road 1585) | +922
Forbush Creek Tributary 1 | At the confluence with Forbush Creek | +747 | Unincorporated Areas of Yadkin County.
| Approximately 0.7 mile upstream of the confluence with Forbush Creek | +762
Forbush Creek Tributary 2 | At the confluence with Forbush Creek | +748 | Unincorporated Areas of Yadkin County.
| Approximately 1.1 miles upstream of the confluence with Forbush Creek | +795
Forbush Creek Tributary 3 | At the confluence with Forbush Creek | +809 | Unincorporated Areas of Yadkin County.
| Approximately 0.5 mile upstream of the confluence with Foxbrush Creek | +836
Forbush Creek Tributary 4 | At the confluence with Forbush Creek | +830 | Unincorporated Areas of Yadkin County.
| Approximately 0.7 mile upstream of Griffin Road (State Road 1591) | +852
Forbush Creek Tributary 5 | At the confluence with Forbush Creek | +889 | Unincorporated Areas of Yadkin County.
| Approximately 0.8 mile upstream of Bovendertown Road (State Road 1584) | +942
Hall Creek | At the confluence with Yadkin River | +778 | Unincorporated Areas of Yadkin County.
| Approximately 0.4 mile upstream of the confluence of Hall Creek Tributary 2 | +902
Hall Creek Tributary 1 | At the confluence with Hall Creek | +853 | Unincorporated Areas of Yadkin County.
| Approximately 0.6 mile upstream of the confluence with Hall Creek | +875
Hall Creek Tributary 2 | At the confluence with Hall Creek | +874 | Unincorporated Areas of Yadkin County.
| Approximately 0.4 mile upstream of the confluence with Hall Creek | +901
Harmon Creek | Approximately 0.5 mile upstream of the confluence with South Deep Creek | +741 | Unincorporated Areas of Yadkin County.
| Approximately 1,990 feet upstream of Ray T Moore Road (State Road 1725) | +812
Hauser Creek | At the confluence with Yadkin River | +711 | Unincorporated Areas of Yadkin County.
| At the Davie/Yadkin County boundary | +711
Haw Branch | At the confluence with North Deep Creek | +800 | Unincorporated Areas of Yadkin County, Town of Yadkinville.
| Approximately 1.1 miles upstream of the confluence with North Deep Creek | +825
Jonesville Creek | At the confluence with Sandyberry Creek | +896 | Town of Jonesville.
| At the confluence of Cobb Creek and Beaverdam Creek | +909
Lineberry Creek | At the confluence with Yadkin River | +883 | Unincorporated Areas of Yadkin County.
| Approximately 1.2 miles upstream of NC Highway 67 | +900
Little Forbrush Creek | At the confluence with Forbrush Creek | +769 | Unincorporated Areas of Yadkin County.
| Approximately 1.3 miles upstream of the confluence of Little Forbrush Creek Tributary 1 | +956
Little Forbush Creek Tributary 1 | At the confluence witih Little Forbush Creek | +880 | Unincorporated Areas of Yadkin County.
| Approximately 0.9 mile upstream of the confluence with Little Forbush Creek | +956
Logan Creek | At the confluence with Forbush Creek | +720 | Unincorporated Areas of Yadkin County.
| Approximately 1,180 feet downstream of NC Highway 67 | +959
Logan Creek Tributary 1 | At the confluence with Logan Creek | +813 | Unincorporated Areas of Yadkin County.
| Approximately 2.2 miles upstream of the confluence with Logan Creek | +883
Logan Creek Tributary 2 | At the confluence with Logan Creek | +850 | Unincorporated Areas of Yadkin County.
| Approximately 1,800 feet upstream of Dal Road (State Road 1581) | +906
Logan Creek Tributary 3 | At the confluence with Logan Creek | +912 | Unincorporated Areas of Yadkin County.
| Approximately 1.5 miles upstream of Mill Hill Road (State Road 1542) | +987
Loney Creek | At the confluence with Logan Creek | +739 | Unincorporated Areas of Yadkin County.
| Approximately 1.7 miles upstream of the confluence with Logan Creek | +786
Long Branch | At the Iredell/Yadkin County boundary | +898 | Unincorporated Areas of Yadkin County.
| Approximately 0.7 mile upstream of Barron Hill Road (State Road 1102) | +948
Long Branch North | At the confluence with North Little Hunting Creek | +938 | Unincorporated Areas of Yadkin County.
| Approximately 1,350 feet upstream of Wells Hollow Drive | +1,075
Mill Branch | At the confluence with Logan Creek | +722 | Unincorporated Areas of Yadkin County.
| Approximately 1.2 miles upstream of Bloomtown Road (State Road 1569) | +758
Miller Creek | At the confluence with Yadkin River | +757 | Unincorporated Areas of Yadkin County.
| Approximately 60 feet downstream of Apperson Road (State Road 1557) | +766
North Deep Creek | Approximately 250 feet upstream of the confluence with Deep Creek and South Deep Creek | +739 | Unincorporated Areas of Yadkin County, Town of Yadkinville.
| Approximately 1.2 miles upstream of Spencer Road (State Road 1385) | +1,065
North Deep Creek Tributary 1 | At the confluence with North Deep Creek | +831 | Unincorporated Areas of Yadkin County.
| Approximately 1.5 miles upstream of the confluence with North Deep Creek | +872
North Deep Creek Tributary 2 | At the confluence with North Deep Creek | +835 | Unincorporated Areas of Yadkin County, Town of Yadkinville.
| Approximately 1.1 miles upstream of U.S. Highway 601 | +897
North Deep Creek Tributary 2A | At the confluence with North Deep Creek Tributary 2 | +860 | Town of Yadkinville, Unincorporated Areas of Yadkin County.
| Approximately 0.7 mile upstream of the confluence with North Deep Creek Tributary 2 | +877
North Deep Creek Tributary 3 | At the confluence with North Deep Creek | +840 | Unincorporated Areas of Yadkin County.
| Approximately 0.4 mile upstream of Shugarts Mill Road (State Road 1379) | +873
North Deep Creek Tributary 4 | At the confluence with North Deep Creek | +847 | Unincorporated Areas of Yadkin County, Town of Boonville.
| Approximately 1.0 mile upstream of Baptist Church Road | +941
North Deep Creek Tributary 4A | At the confluence with North Deep Creek Tributary 4 | +854 | Unincorporated Areas of Yadkin County.
| Approximately 0.7 mile upstream of the confluence with North Deep Creek Tributary 4 | +875
North Deep Creek Tributary 4B | At the confluence with North Deep Creek Tributary 4 | +884 | Unincorporated Areas of Yadkin County.
| Approximately 0.4 mile upstream of Abraham Road (State Road 1512) | +921
North Little Hunting Creek | At the Iredell/Yadkin County boundary | +813 | Unincorporated Areas of Yadkin County.
| Approximately 0.4 mile upstream of Union Church Road (State Road 1109) | +1,025
North Little Hunting Creek Tributary 1 | At the confluence with North Little Hunting Creek | +825 | Unincorporated Areas of Yadkin County.
| Approximately 0.5 mile upstream of the confluence with North Little Hunting Creek | +836
North Little Hunting Creek Tributary 2 | At the confluence with North Little Hunting Creek | +947 | Unincorporated Areas of Yadkin County.
| Approximately 210 feet downstream of Old U.S. Highway 421 West | +1,091
Roby Creek | At the confluence with Turner Creek | +712 | Unincorporated Areas of Yadkin County.
| Approximately 0.7 mile upstream of Georgia Road (State Road 1717) | +761
Rocky Branch | At the confluence with North Little Hunting Creek | +887 | Unincorporated Areas of Yadkin County.
| Approximately 630 feet downstream of Rocky Branch Road | +1,027
Sandyberry Creek | At the upstream side of Center Road | +948 | Unincorporated Areas of Yadkin County, Town of Jonesville.
| Approximately 140 feet downstream of Interstate 77 | +1,062
South Deep Creek | At Old Stage Road (State Road 1733) | +741 | Unincorporated Areas of Yadkin County, Town of Yadkinville.
| Approximately 1,700 feet downstream of Rock House Mountain Road (State Road 1349) | +1,043
South Deep Creek Tributary 1 | At the confluence with South Deep Creek | +763 | Unincorporated Areas of Yadkin County, Town of Yadkinville.
| Approximately 1,580 feet upstream of Billy Reynolds Road (State Road 1134) | +932
South Deep Creek Tributary 3 | At the confluence with South Deep Creek | +780 | Unincorporated Areas of Yadkin County.
| Approximately 0.5 mile upstream of Merry Acres Drive | +818
South Deep Creek Tributary 3A | At the confluence with South Deep Creek Tributary 3 | +784 | Unincorporated Areas of Yadkin County.
| Approximately 780 feet upstream of Helton Road (State Road 1136) | +802
South Deep Creek Tributary 3B | At the confluence with South Deep Creek Tributary 3 | +794 | Unincorporated Areas of Yadkin County.
| Approximately 0.5 mile upstream of Arnold Road (State Road 1132) | +827
South Deep Creek Tributary 4 | At the confluence with South Deep Creek | +885 | Unincorporated Areas of Yadkin County.
| Approximately 0.4 mile upstream of Cranberry Road (State Road 1343) | +1,078
South Deep Creek Tributary 4A | At the confluence with South Deep Creek Tributary 4 | +1,051 | Unincorporated Areas of Yadkin County.
| Approximately 550 feet downstream of Longtown Road (State Road 1338) | +1,075
South Deep Creek Tributary 5 | At the confluence with South Deep Creek | +930 | Unincorporated Areas of Yadkin County.
| Approximately 900 feet upstream of Marler Road (State Road 1103) | +1,076
South Deep Creek Tributary 5A | At the confluence with South Deep Creek Tributary 5 | +954 | Unincorporated Areas of Yadkin County.
| Approximately 360 feet downstream of Marler Road (State Road 1103) | +1,043
South Deep Creek Tributary 6 | At the confluence with South Deep Creek | +1,007 | Unincorporated Areas of Yadkin County.
| Approximately 160 feet downstream of U.S. Highway 21 | +1,017
South Deep Tributary 7 | At the confluence with South Deep Creek | +1,020 | Unincorporated Areas of Yadkin County.
| Approximately 1,100 feet downstream of Swaims Church Road (State Road 1347) | +1,035
Steelman Creek | At the Davie/Yadkin County boundary | +795 | Unincorporated Areas of Yadkin County.
| Approximately 0.9 mile upstream of Else Road (State Road 1163) | +829
Tanyard Creek | At the confluence with Yadkin River | +840 | Unincorporated Areas of Yadkin County, Town of Boonville.
| Approximately 1.4 miles upstream of River Road (State Road 1367) | +909
Turner Creek | At the confluence with Yadkin River | +712 | Unincorporated Areas of Yadkin County.
| Approximately 0.4 mile upstream of Turners Creek Road (State Road 1728) | +824
Turner Creek Tributary 1 | At the confluence with Turner Creek | +712 | Unincorporated Areas of Yadkin County.
| Approximately 0.7 mile upstream of the confluence with Turner Creek | +719
Walkers Branch | At the confluence with North Little Hunting Creek | +880 | Unincorporated Areas of Yadkin County.
| Approximately 0.5 mile upstream of Buck Shoals Road (State Road 1103) | +1,006
Williams Creek | At the confluence with Yadkin River | +882 | Unincorporated Areas of Yadkin County.
| Approximately 180 feet upstream of Hailey Drive | +899
Yadkin River | At the Davie/Forsyth/Yadkin County boundary | +711 | Unincorporated Areas of Yadkin County, Town of Jonesville.
| Approximately 500 feet downstream of the Surry/Wilkes/Yadkin County boundary | +903
Yadkin River Tributary 10 | At the confluence with Yadkin River | +748 | Unincorporated Areas of Yadkin County.
| Approximately 90 feet downstream of Hauser Road | +784
Yadkin River Tributary 11 | At the confluence with Yadkin River | +854 | Unincorporated Areas of Yadkin County, Town of Boonville.
| Approximately 1.0 mile upstream of U.S. Highway 601 | +964
Yadkin River Tributary 15 | At the confluence with Yadkin River | +815 | Unincorporated Areas of Yadkin County.
| Approximately 475 feet upstream of Limerock Road (State Road 1529) | +826
Yadkin River Tributary 17 | At the confluence with Yadkin River | +827 | Unincorporated Areas of Yadkin County.
| Approximately 0.5 mile upstream of Doe Run Drive | +849
Yadkin River Tributary 27 | At the confluence with Yadkin River | +771 | Unincorporated Areas of Yadkin County, Town of East Bend.
| Approximately 3.2 miles upstream of the confluence with Yadkin River | +951
Yadkin River Tributary 9 | At the confluence with Yadkin River | +741 | Unincorporated Areas of Yadkin County.
| Approximately 1.8 miles upstream of Butner Mill Road (State Road 1562) | +847
* National Geodetic Vertical Datum.
+ North American Vertical Datum.
# Depth in feet above ground.
ADDRESSES
Town of Boonville
Maps are available for inspection at Boonville Town Hall, 110 North Carolina Avenue, Boonville, North Carolina.
Town of East Bend
Maps are available for inspection at East Bend Town Hall, 108 West Main Street, East Bend, North Carolina.
Town of Jonesville
Maps are available for inspection at Jonesville Town Hall, 136 West Main Street, Jonesville, North Carolina.
Town of Yadkinville
Maps are available for inspection at Yadkinville Town Hall, 213 Van Buren Street, Yadkinville, North Carolina.
Unincorporated Areas of Yadkin County
Maps are available for inspection at Yadkin County Manager's Office, 217 East Willow Street, Yadkinville, North Carolina.
Creek County, Oklahoma, and Incorporated Areas
FEMA Docket No.: B-7752
Nickel Creek | Approximately 2800 feet upstream of W 91st Street intersection | +640 | City of Sapulpa, Unincorporated Areas of Creek County.
| At intersection with Land Road | +670
Polecat Creek | Approximately 75 feet upstream of Creek Turnpike Intersection | +654 | City of Sapulpa, Unincorporated Areas of Creek County.
| Approximately 200 feet upstream of Highway 75A intersection | +671
Polecat Creek Tributary 2 | Confluence with Polecat Creek | +645 | City of Sapulpa, Unincorporated Areas of Creek County.
| Approximately 5,000 feet upstream of Albert Lewis Ward Road intersection | +676
Polecat Creek Tributary 4 | Approximately 340 feet downstream from Tulsa Sapulpa and Union Railroad (BFE remains constant) | +656 | City of Sapulpa, Unincorporated Areas of Creek County.
| Approximately 200 feet upstream of W 91st Street Intersection (BFE remains constant) | +656
Polecat Creek Tributary 4-1 | Approximately 970 feet downstream of Tulsa Sapulpa and Union Railroad | +656 | City of Sapulpa, Unincorporated Areas of Creek County.
| Approximately 175 feet upstream of intersection with W 91st Street | +706
Rock Creek | Confluence with Polecat Creek | +669 | City of Sapulpa, Unincorporated Areas of Creek County.
| Approximately 80 feet upstream of intersection with IH-44 | +685
* National Geodetic Vertical Datum.
+ North American Vertical Datum.
# Depth in feet above ground.
ADDRESSES
City of Sapulpa
Maps are available for inspection at 425 East Dewey, Sapulpa, OK 74066.
Unincorporated Areas of Creek County
Maps are available for inspection at 317 East Lee, Sapulpa, OK 74066.
Sevier County, Tennessee, and Incorporated Areas
FEMA Docket No.: B-7752
East Fork Little Pigeon River | 840 feet upstream of the Confluence with Little Pigeon River | +939 | Unincorporated Areas of Sevier County, City of Sevierville.
| 1,007 feet upstream of Oma Lee Drive | +1019
French Broad River | 1,456 feet downstream of Confluence with Dry Branch | +856 | Unincorporated Areas of Sevier County, City of Sevierville.
| 2,179 feet upstream of State Highway 338 | +885
Gists Creek | 3,066 feet upstream of Confluence with Little Pigeon River | +886 | Unincorporated Areas of Sevier County, City of Sevierville.
| 1,489 feet upstream of Chapman Highway | +906
Little Pigeon River | 1,441 feet downstream of Boyds Creek Road | +879 | City of Sevierville, Unincorporated Areas of Sevier County.
| 1,220 feet downstream of Confluence with Lone Branch | +948
Middle Creek | 575 feet upstream of River Place | +905 | City of Sevierville, City of Pigeon Forge.
| 2,200 feet downstream of Upper Middle Creek Road | +1010
Mill Creek | 342 feet upstream of Confluence with West Prong Little Pigeon River | +965 | City of Pigeon Forge, Unincorporated Areas of Sevier County.
| 524 feet upstream of Mill Creek Road | +1121
Walden Creek | 220 feet upstream of Confluence with West Prong Little Pigeon River | +965 | City of Pigeon Forge, Unincorporated Areas of Sevier County.
| 276 feet downstream of Little Valley Road | +1006
West Prong Little Pigeon River | 160 feet downstream of West Main Street | +901 | City of Sevierville, City of Pigeon Forge, Unincorporated Areas of Sevier County.
| 1,467 feet upstream of 321 | +1057
* National Geodetic Vertical Datum.
+ North American Vertical Datum.
# Depth in feet above ground.
ADDRESSES
City of Pigeon Forge
Maps are available for inspection at Public Works, 225 Pine Mountain Road, Pigeon Forge, TN 37863.
City of Sevierville
Maps are available for inspection at Sevierville City Hall, 120 Gary Wade Blvd., Sevierville, TN 37862.
Unincorporated Areas of Sevier County
Maps are available for inspection at Sevierville County Emergency Management, 245 Bruce Street, Sevierville, TN 37862.
Travis County, Texas and Incorporated Areas
FEMA Docket No.: B-7464
Blunn Creek | Confluence with Colorado River | +440 | City of Austin.
| Approximately 1,570 feet upstream from the intersection with Alpine Drive | +648
Boggy Creek North | Confluence with Colorado River | +432 | City of Austin.
| Intersection with Airport Blvd | +590
Boggy Creek Tributary 1 | Confluence with Boggy Creek North | +446 | City of Austin.
| Intersection with Airport Blvd | +458
Carson Creek | Confluence with Colorado River | +423 | City of Austin, Unincorporated Areas of Travis County.
| Approximately 4,100 feet upstream from the intersection with Metro Center Drive | +570
Carson Creek Tributary 2 | Confluence with Carson Creek | +440 | City of Austin.
| Approximately 1,500 feet upstream from the intersection with State Hwy 71 | +458
Carson Creek Tributary 3 | Confluence with Carson Creek | +432 | City of Austin.
| Intersection with Thornberry Road | +478
Carson Creek Tributary 4 | Confluence with Carson Creek | +432 | City of Austin.
| Approximately 1,000 feet downstream from the intersection with Dalton Lane | +440
Clarkson Branch | Confluence with Boggy Creek North | +548 | City of Austin.
| Intersection with 38th 1/2 Street | +576
Colorado River | Confluence with unnamed tributary | +391 | City of Austin, City of Jonestown, City of Lago Vista, City of Lakeway, City of Rollingwood, City of Round Rock, City of Webberville, City of West Lake Hills, Unincorporated Areas of Travis County, Village of Briarcliff, Village of Point Venture.
| Downstream face of Mansfield Dam | +722
Country Club Creek East (Old Country Club Creek) | Confluence with Colorado River | +437 | City of Austin.
| Approximately 3,100 feet upstream from the intersection with Riverside Drive | +565
Country Club Creek East Tributary 1 | Confluence with Country Club Creek East | +449 | City of Austin.
| Intersection with Fairway Street | +493
Country Club Creek East Tributary 2 (Old Country Club Creek) | Confluence with Country Club Creek East | +453 | City of Austin.
| Approximately 220 feet downstream from the intersection with Crossing Place | +457
Country Club Creek East Tributary 3 | Confluence with Country Club Creek East | +466 | City of Austin.
| Approximately 380 feet upstream from the intersection with Riverside Drive | +502
Country Club Creek East Tributary 4 | Confluence with Country Club Creek East | +497 | City of Austin.
| Approximately 430 feet downstream from the intersection with Grove Blvd | +536
Country Club Creek West (New Country Club Creek) | Confluence with Colorado River | +438 | City of Austin.
| Approximately 2,340 feet upstream from the intersection with Metcalfe Road | +612
Country Club Creek West Tributary 1 | Confluence with Country Club Creek West | +465 | City of Austin.
| Approximately 750 feet upstream from the intersection with Riverside Drive | +542
Country Club Creek West Tributary 2 | Confluence with Country Club Creek West | +485 | City of Austin.
| Approximately 1,290 feet upstream from the intersection with Oltorf Street | +599
Country Club Creek West Tributary 3 | Confluence with Country Club Creek West | +501 | City of Austin.
| Intersection with State Hwy 71/Ben White Blvd | +612
Country Club Creek West Tributary 3A | Confluence with Country Club Creek West Tributary 3 | +550 | City of Austin.
| Approximately 1,460 feet upstream from the confluence with Country Club Creek West Tributary 3 | +610
Country Club Creek West Tributary 4 | Confluence with Country Club Creek West | +523 | City of Austin.
| Intersection with Burleson Road | +575
Country Club Creek West Tributary 5 | Confluence with Country Club Creek West | +553 | City of Austin.
| Approximately 680 feet upstream from the intersection with Granada Drive | +608
Danz Creek | Confluence with Slaughter Creek | +746 | City of Austin.
| Intersection with FM 1826 | +989
Danz Creek Split | Confluence with Danz Creek | +783 | City of Austin.
| Divergence from Danz Creek | +844
Danz Creek Tributary 1 | Confluence with Danz Creek | +766 | City of Austin.
| Approximately 1 mile upstream from the confluence with Danz Creek | +787
Danz Creek Tributary 2 | Confluence with Danz Creek | +860 | City of Austin.
| Approximately 1 mile upstream from the confluence with Danz Creek | +894
Dry Creek North | Confluence with Colorado River | +494 | City of Austin.
| Approximately 1,050 feet upstream from the intersection with Laurel Valley Drive | +761
Dry Creek North Tributary 1 | Confluence with Dry Creek North | +556 | City of Austin.
| Approximately 940 feet upstream from the intersection with FM 2222 | +613
Dry Creek North Tributary 2 | Confluence with Dry Creek North | +573 | City of Austin.
| Intersection with Berry Hill Drive | +623
Dry Creek North Tributary 3 | Confluence with Dry Creek North | +582 | City of Austin.
| Approximately 870 feet upstream from the confluence with Dry Creek North | +602
Dry Creek North Tributary 4 | Confluence with Dry Creek North | +602 | City of Austin.
| Approximately 640 feet upstream from the intersection with Dry Creek Drive | +641
East Bouldin Creek | Confluence with Colorado River | +440 | City of Austin.
| Intersection with Ben White Blvd | +655
East Branch of Fort Branch Creek Tributary 1 | Confluence with Fort Branch Creek Tributary 1 | +557 | City of Austin.
| Approximately 400 feet upstream from the intersection with Rogge Lane | +575
Fort Branch Creek | Confluence with Boggy Creek North | +440 | City of Austin.
| Approximately 160 feet upstream from the intersection with Glencrest Drive | +640
Fort Branch Creek Tributary 1 | Confluence with Fort Branch | +532 | City of Austin.
| Approximately 400 feet upstream from the intersection with Rogge Lane | +591
Fort Branch Creek Tributary 2 | Confluence with Fort Branch | +584 | City of Austin.
| Approximately 900 feet upstream from the intersection with Gaston Place | +605
Grayson Branch | Confluence with Boggy Creek North | +547 | City of Austin.
| Intersection with 39th Street | +557
Harris Branch | Approximately 3,000 feet upstream of the confluence with Gilleland Creek | +537 | City of Austin, Unincorporated Areas of Travis Country.
| Approximately 300 feet upstream from the intersection with Park Crossing | +743
Harris Branch Tributary 4 | Confluence with Harris Branch | +602 | City of Austin, Unincorporated Areas of Travis Country.
| Intersection with Harris Ridge Blvd | +723
Harris Branch Tributary 6 | Confluence with Harris Branch | +597 | City of Austin, Unincorporated Areas of Travis County.
| Approximately 1 mile upstream from the confluence with Harris Branch | +628
Kincheon Creek | Confluence with Williamson Creek | +679 | City of Austin.
| Approximately 750 feet upstream from the intersection with Abilene Trail | +838
Little Walnut Creek | Confluence with Walnut Creek | +470 | City of Austin.
| Intersection with Metric Blvd | +731
Little Walnut Creek Tributary 1 | Confluence with Little Walnut Creek | +537 | City of Austin.
| Intersection with Chevy Chase Drive | +684
Little Walnut Creek Tributary 3 | Confluence with Little Walnut Creek | +669 | City of Austin.
| Approximately 740 feet upstream from the intersection with Northgate Blvd | +716
Montopolis Tributary | Confluence with Carson Creek | +450 | City of Austin.
| Approximately 1 mile upstream from the intersection with Dalton Lane | +472
North Fork West Bouldin Creek | Confluence with West Bouldin Creek | +564 | City of Austin.
| Approximately 300 feet upstream from the instersection with Manchaca Road | +641
Onion Creek | Confluence with the Colorado River | +408 | City of Austin, Unincorporated Areas of Travis County.
| Approximately 5,500 feet upstream from the confluence of Garlic Creek and Onion Creek (Travis and Hays County Line) | +646
Pleasant Hill Tributary | Confluence with Williamson Creek | +575 | City of Austin.
| Intersection with South Congress Road | +654
Poquito Branch | Confluence with Boggy Creek North | +489 | City of Austin.
| Intersection with Poquito Street | +494
Possum Trot Branch | Intersection of 11th Street and Possum Trot Branch | +480 | City of Austin.
| Approximately 350 feet upstream from the intersection with Woodmont Avenue, | +560
Shoal Creek | Confluence with the Colorado River (Town Lake) | +440 | City of Austin.
| Approximately 1,650 feet upstream from the intersection with the Union Pacific Railroad | +776
Slaughter Creek | Intersection of the Union Pacific Railroad and Slaughter Creek | +664 | City of Austin, City of San Leanna, Unincorporated Areas of Travis County.
| Approximately 730 feet upstream from the intersection with Hwy 290 | +1074
Slaughter Creek Tributary 1 | Approximately 800 feet upstream from the confluence with Slaughter Creek | +592 | City of Austin.
| Approximately 1,000 feet upstream from the intersection with Manchaca Road | +689
Slaughter Creek Tributary 2 | Confluence with Slaughter Creek | +673 | City of Austin.
| Intersection with Brodie Lane | +752
Slaughter Creek Tributary 3 | Confluence with Slaughter Creek | +743 | Unincorporated Areas of Travis County.
| Approximately 1,050 feet upstream from the intersection with Lost Oasis Hollow | +781
Slaughter Creek Tributary 4 | Confluence with Slaughter Creek | +776 | City of Austin.
| Approximately 100 feet downstream from the intersection with Mo-Pac Expressway | +815
Slaughter Creek Tributary 5 | Confluence with Slaughter Creek | +847 | City of Austin.
| Approximately 2,550 feet upstream from the intersection with LaCrosse Avenue | +897
South Boggy Creek | Intersection of Bluff Springs Road and South Boggy Creek | +559 | City of Austin, Unincorporated Areas of Travis County.
| Approximately 650 feet upstream from the intersection with Westgate Blvd | +771
Sunset Valley Tributary | Approximately 600 feet downstream from the intersection with Jones Road | +652 | City of Austin, City of Sunset Valley.
| Approximately 2,050 feet upstream from the intersection with Monterey Oaks Drive | +760
Tar Branch | Confluence with Walnut Creek | +630 | City of Austin.
| Approximately 1,200 feet upstream from the intersection with Metric Blvd | +718
Walnut Creek | Confluence with Colorado River | +431 | City of Austin, Unincorporated Areas of Travis County.
| Approximately 50 feet downstream from the intersection with McNeil Drive | +893
Walnut Creek Tributary 1 | Confluence with Walnut Creek | +432 | City of Austin.
| Approximately 2,200 feet upstream from the intersection with Loyola Avenue | +506
Walnut Creek Tributary 10 | Approximately 1,200 feet upstream from the confluence with Walnut Creek | +764 | City of Austin, Unincorporated Areas of Travis County.
| Intersection with Howard Lane | +809
Walnut Creek Tributary 2 | Intersection with railroad bed | +445 | City of Austin.
| Interesection with Martin Luther King Blvd | +482
Walnut Creek Tributary 3 | Approximately 1,200 feet upstream from the confluence with Walnut Creek | +494 | City of Austin, Unincorporated Areas of Travis County.
| Intersection with Cameron Road | +576
Walnut Creek Tributary 4 | Confluence with Walnut Creek | +498 | City of Austin.
| Approximately 80 feet upstream from the intersection with Springdale Road | +543
Walnut Creek Tributary 5 | Confluence with Walnut Creek | +514 | City of Austin.
| Approximately 2,200 feet upstream from the intersection with Sansom Road | +556
Walnut Creek Tributary 6 | Confluence with Walnut Creek | +611 | City of Austin.
| Approximately 1,030 feet upstream from the intersection with Canyon Ridge Drive | +707
Walnut Creek Tributary 7 | Confluence with Walnut Creek | +694 | City of Austin.
| Intersection with Research Blvd | +844
Walnut Creek Tributary 7A | Approximately 650 feet upstream from the confluence with Walnut Creek Tributary 7 | +757 | City of Austin.
| Approximately 3,500 feet upstream from the intersection with the railroad | +821
Walnut Creek Tributary 8 | Confluence with Walnut Creek | +701 | City of Austin.
| Intersection with Railroad | +796
Walnut Creek Tributary 9 | Confluence with Walnut Creek | +709 | City of Austin.
| Approximately 730 feet upstream from the intersection with Howard Lane | +786
Wells Branch | Confluence with Walnut Creek | +629 | City of Austin.
| Approximately 710 feet upstream from the intersection with Wells Branch Pkwy | +772
West Bouldin Creek | Confluence with Colorado River | +442 | City of Austin.
| Approximately 240 feet upstream from the intersection with Clawson | +641
Williamson Creek | Confluence with Onion Creek | +522 | City of Austin, City of Sunset Valley.
| Approximately 200 feet upstream from the intersection with Mowinkle Drive | +968
Williamson Creek Tributary 1 | Confluence with Williamson Creek | +522 | City of Austin.
| Approximately 50 feet upstream from the intersection with Nuckols Crossing Road | +562
Williamson Creek Tributary 2 | Confluence with Williamson Creek | +523 | City of Austin.
| Approximately 250 feet upstream from the intersection with Nuckols Crossing | +592
Williamson Creek Tributary 3 | Intersection of Nuckols Crossing and Williamson Creek Tributary 3 | +541 | City of Austin.
| Approximately 670 feet upstream from the intersection with Pino Street | +567
Williamson Creek Tributary 4 | Confluence with Williamson Creek | +596 | City of Austin.
| Approximately 210 feet upstream from the intersection with South First Street | +643
Williamson Creek Tributary 5 | Confluence with Williamson Creek | +848 | City of Austin.
| Approximately 500 feet upstream from the intersection with South Brook Drive | +920
Williamson Creek Tributary 6 | Approximately 5,000 feet upstream from the intersection with William Cannon Drive | +864 | City of Austin.
| Approximately 5,900 feet upstream from the intersection with William Cannon Drive | +899
* National Geodetic Vertical Datum.
+ North American Vertical Datum.
# Depth in feet above ground.
ADDRESSES
City of Austin
Maps are available for inspection at 505 Barton Springs Road, 12th Floor, Austin, TX 78704.
City of Jonestown
Maps are available for inspection at 18649 FM 1431, Suite 4-A, Jonestown, TX 78645.
City of Lago Vista
Maps are available for inspection at 5803 Thunderbird, Lago Vista, TX 78645.
City of Lakeway
Maps are available for inspection at 1102 Lohmans Crossing, Lakeway, TX 78734.
City of Rollingwood
Maps are available for inspection at 403 Nixon Drive, Austin, TX 78746.
City of Round Rock
Maps are available for inspection at 2008 Enterprise, Round Rock, TX 78664.
City of San Leanna
Maps are available for inspection at 11906 Sleepy Hollow, Manchaca, TX 78652.
City of Sunset Valley
Maps are available for inspection at 3205 Jones Road, Sunset Valley, TX 78745.
City of Webberville
Maps are available for inspection at Webberville City Hall, 1701 Webberwood, Elgin, TX 78621.
City of West Lake Hills
Maps are available for inspection at 911 Westlake Drive, West Lake Hills, TX 78746.
Unincorporated Areas of Travis County
Maps are available for inspection at 411 13th Street, 8th Floor, Austin, TX 78767.
Village of Briarcliff
Maps are available for inspection at 402 Sleat Drive, Briarcliff, TX 78669.
Village of Point Venture
Maps are available for inspection at 549 Venture Blvd South, Point Venture, TX 78645.
Village of Volente
Maps are available for inspection at 15403 Hill Street, Volente, TX 78641.
Green County, Wisconsin, and Incorporated Areas
FEMA Docket No. B-7753
Allen Creek | At the confluence with Sugar River | +810 | Unincorporated Areas of Green County.
| Approximately 250 feet downstream of County Highway E | +810
Little Sugar River | At the mouth at Albany Lake | +806 | Unincorporated Areas of Green County.
| Just upstream of Tin Can Road | +807
Sugar River | Approximately 7,300 feet upstream of the Dam at Decatur Lake | +793 | Unincorporated Areas of Green County.
| Approximately 1,200 feet upstream of Remy Road | +856
* National Geodetic Vertical Datum.
+ North American Vertical Datum.
# Depth in feet above ground.
ADDRESSES
Unincorporated Areas of Green County
Maps are available for inspection at Government Services Building, N3150 Highway 81, Monroe, WI 53566.

(Catalog of Federal Domestic Assistance No. 97.022, “Flood Insurance.”)

Dated: December 5, 2008.
Michael K. Buckley,
Acting Assistant Administrator, Mitigation Directorate, Department of Homeland Security, Federal Emergency Management Agency.

[FR Doc. E8-29779 Filed 12-15-08; 8:45 am]

BILLING CODE 9110-12-P